DEPARTMENT OF THE INTERIOR

Bureau of Land Management

[LLNVL03000.L58480000.EU0000 241A;N-86209; 14-08807; TAS: 14X5232]

Notice of Realty Action: Modified Competitive Sale (N-86209) of Public Land in Lincoln County, NV

Correction

In notice document 2013-31597 appearing on pages 840 through 842 in the issue of Tuesday, January 7, 2014, make the following correction.

1. On page 840, in the second column, in the DATES section “February 21, 2013” should read “February 21, 2014”.

[FR Doc. C1-2013-31597 Filed 1-15-14; 8:45 am]

BILLING CODE 1501-05-D